DEPARTMENT OF THE INTERIOR

Bureau of Land Management

[MT-910-03-1820-XP]

Notice of Public Meetings; Western, Central, Eastern Montana, and Dakotas Resource Advisory Council Meetings

AGENCY: Bureau of Land Management, Interior.

ACTION: Notice.

SUMMARY: In accordance with the Federal Land Policy and Management Act (FLPMA) and the Federal Advisory Committee Act of 1972 (FACA), the U.S. Department of the Interior, Bureau of Land Management (BLM), the Western Montana, Central Montana, Eastern Montana, and Dakotas Resource Advisory Councils will meet as indicated below.

DATES: All four RACs will meet jointly on October 29, 2003. The joint meeting will begin at 8 a.m. and will be held at the BLM Montana State Office, 5001 Southgate Drive, Billings, Montana. Topics to be discussed include Sustaining Working Landscapes and the National Sage-Grouse Habitat Conservation Strategy. A public comment period will be held from 1-2 p.m.

Three RACs will also hold individual meetings. The Central Montana RAC will meet at 5:30 p.m. on October 28, 2003, and will continue its meeting on October 30, 2003, at 8 a.m. at the BLM Montana State Office at 5001 Southgate Drive, Billings, Montana. It will discuss the Upper Missouri River Breaks National Monument Resource Management Plan (RMP), Montana/Dakotas Off-Highway Vehicle policy priority setting, and the Blackleaf Environmental Impact Statement (EIS). A public comment period will be held at 8 a.m. on October 30, 2003.

The Eastern Montana RAC will meet on October 30, 2003, at 8 a.m. at the BLM Montana State Office at 5001 Southgate Drive, Billings, Montana. Among its items of discussion will be coal bed natural gas development in the Powder River Basin. Its public comment period will be at 11:30 a.m.

The Western Montana RAC will meet on October 30, 2003, at 8 a.m. at the Hampton Inn, 5110 Southgate Drive, Billings, Montana. The public comment period will be at 11 a.m. Among the agenda items are the Butte RMP and an update on the Limestone Hills Training Area EIS. The public comment period will be at 11:30 a.m.

SUPPLEMENTARY INFORMATION: The 15-member Councils advise the Secretary of the Interior, through the Bureau of Land Management, on a variety of planning and management issues associated with public land management in Montana and the Dakotas. All meetings are open to the public. The public may present written comments to the Councils. Each formal Council meeting will also have time allocated for hearing public comments. Depending on the number of persons wishing to comment and time available, the time for individual oral comments may be limited. Individuals who plan to attend and need special assistance, such as sign language interpretation, or other reasonable accommodations, should contact the BLM as provided below.

FOR FURTHER INFORMATION CONTACT: Mary Apple, State RAC Coordinator, at the BLM Montana State Office, 5001 Southgate Drive, Billings, MT 59101, at 406-896-5258.

Dated: September 23, 2003.
A. Jerry Meredith,
Acting State Director, Montana State Office.

[FR Doc. 03-24480 Filed 9-26-03; 8:45 am]

BILLING CODE 4310-$$-P